DEPARTMENT OF TRANSPORTATION

Federal Aviation Administration

14 CFR Part 71

[Docket No. FAA-2010-0386; Airspace Docket No. 10-AWA-1]

Revocation of Class C Airspace, Establishment of Class D Airspace, and Modification of Class E Airspace; Columbus, GA

AGENCY: Federal Aviation Administration (FAA), DOT.

ACTION: Final rule.

SUMMARY: This action removes the Columbus, GA, Class C airspace area; establishes Class D airspace to replace the Class C airspace; and amends the existing Class E surface area and 700 foot Class E airspace at Columbus, GA. The FAA is taking this action because Columbus Metropolitan Airport no longer meets the criteria required to qualify for a Class C airspace designation. Reconfiguring the airspace facilitates more efficient use of airspace in the Columbus, GA area. A minor correction to the geographic coordinates for Lawson Army Airfield (AAF) also will be made.

DATES: Effective Date: 0901 UTC, January 13, 2011. The Director of the Federal Register approves this incorporation by reference action under 1 CFR part 51, subject to the annual revision of FAA Order 7400.9 and publication of conforming amendments.

FOR FURTHER INFORMATION CONTACT: Paul Gallant, Airspace Regulations and ATC Procedures Group, Office of Airspace Services, Federal Aviation Administration, 800 Independence Avenue, SW., Washington, DC 20591; telephone: (202) 267-8783.

SUPPLEMENTARY INFORMATION:

History

On May 18, 2010, the FAA published in the Federal Register a notice of proposed rulemaking to remove the Columbus, GA, Class C airspace area, establish the Columbus, GA, Class D airspace area and modify the existing Class E surface area and the 700 foot Class E airspace area at Columbus, GA (75 FR 27670). Interested parties were invited to participate in this rulemaking effort by submitting written comments on the proposal. No comments were received.

This rule includes a minor correction to the description geographic coordinates of the AAF, Fort Benning, GA, listed in the description of paragraph 6005. With the exception of this correction and editorial changes, this amendment is the same as that proposed in the NPRM.

The Rule

This action amends Title 14 Code of Federal Regulations (14 CFR) part 71 by removing the Columbus Metropolitan Airport Class C airspace area; establishing a new part-time Class D airspace area to replace the former Class C airspace; and modifying the existing Class E surface area and Class E airspace extending upward from 700 feet above the surface at Columbus, Ga. The radius of the Class E surface area at the airport will be reduced from 5 nautical miles (NM) to 4.4 NM to match the radius of the dimensions of the Class D airspace area, while the radius of the Class E airspace extending upward from 700 feet above the surface at Columbus Metropolitan Airport will be reduced from 10 NM to 6.8 NM. Columbus Metropolitan Airport no longer meets the air traffic volume and passenger enplanements required for a Class C airspace designation.

Class C airspace areas, Class D airspace areas, Class E surface areas and Class E airspace extending upward from 700 feet above the surface, are published in paragraphs 4000, 5000, 6002, and 6005, respectively, of FAA Order 7400.9U dated August 18, 2010, and effective September, 15, 2010, which is incorporated by reference in 14 CFR 71.1. The Class C, D and E airspace area amendments proposed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends a portion of the terminal airspace structure to enhance the safe and efficient use of the NAS in the vicinity of Columbus, GA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9U, Airspace Designations and Reporting Points, dated August 18, 2010, and effective September 15, 2010, is amended as follows:

Paragraph 4000 Class C Airspace.

* * * * *

ASO GA C Columbus Metropolitan Airport, GA [Removed]

* * * * *

Paragraph 5000 Class D Airspace.

* * * * *

ASO GA D Columbus, GA [New]

Columbus Metropolitan Airport, GA

(Lat. 32°30′59″ N., long. 84°56′20″ W.)

That airspace extending upward from the surface to and including 2,900 feet MSL within a 4.4-mile radius of the Columbus Metropolitan Airport; and that airspace within 1 mile each side of the 234° bearing from the airport extending from the 4.4-mile radius to 5 miles south of the airport. This Class D airspace is effective during the specific dates and times established in advance by a Notice to Airmen. The effective date and time will thereafter be continuously published in the Airport/Facility Directory.

* * * * *

Paragraph 6002 Class E Airspace Designated as Surface Areas.

* * * * *

ASO GA E2 Columbus Metropolitan Airport, GA [Amended]

Columbus Metropolitan Airport

(Lat. 32°30′59″ N., long. 84°56′20″ W.)

Within a 4.4-mile radius of Columbus Metropolitan Airport; and that airspace within 1 mile each side of the 234° bearing from the airport, extending from the 4.4-mile radius to 5 miles south of the airport. This Class E airspace area is effective during the specific dates and times established in advance by a Notice to Airmen. The effective date and time will thereafter be continuously published in the Airport/Facility Directory.

* * * * *

Paragraph 6005 Class E Airspace Areas Extending Upward from 700 feet or More Above the Surface of the Earth.

* * * * *

ASO GA E5 Columbus, GA [Amended]

Columbus Metropolitan Airport, GA

(Lat. 32°30′59″ N., long. 84°56′20″ W.)

Lawson AAF, GA

(Lat. 32°19′54″ N., long. 84°59′14″ W.)

Lawson VOR/DME

(Lat. 32°19′57″ N., long. 84°59′36″ W.)

Lawson LOC

(Lat. 32°20′43″ N., long. 84°59′55″ W.)

That airspace extending upward from 700 feet above the surface within a 6.8-mile radius of Columbus Metropolitan Airport; and within 1 mile each side of the 234° bearing from the airport extending from the 6.8-mile radius to 7.3-miles south of the airport; and within a 7.6-mile radius of Lawson AAF; and within 2.5 miles each side of Lawson VOR/DME 340° radial extending from the 7.6-mile radius to 15 miles north of the VOR/DME; and within 4 miles each side of the Lawson LOC 145° course extending from the 7.6-mile radius to 10.6 miles southeast of Lawson AAF.

Issued in Washington, DC, on October 6, 2010.
Edith V. Parish,
Manager, Airspace and Rules Group.

[FR Doc. 2010-26094 Filed 10-15-10; 8:45 am]

BILLING CODE 4910-13-P